DEPARTMENT OF COMMERCE

National Oceanic and Atmospheric Administration

RIN 0648-XC027

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, June 4-12, 2012 in Kodiak, AK.

DATES: The meetings will be held Monday, June 4, 2012 through Tuesday, June 12, 2012. See SUPPLEMENTARY INFORMATION for specific dates and times of the meetings.

ADDRESSES: The meetings will be held at the Kodiak Harbor Convention Center, 236 Rezanof Drive, Kodiak, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: The Council will begin its plenary session at 8 a.m. on Wednesday, June 6 continuing through Tuesday, June 12, 2012. Council's Advisory Panel (AP) will begin at 8 a.m., Monday, June 4 and continue through Friday, June 8 at the Elks Club, 102 Marine Way. The Scientific Statistical Committee (SSC) will begin at 8 a.m. on Monday, June 4 and continue through Wednesday, June 6 at the Kodiak Inn, Harbor Room. The Enforcement Committee will meet Tuesday, June 5, from 1 p.m. until 4 p.m., meeting room to be announced. All meetings are open to the public, except executive sessions.

Council Plenary Session: The agenda for the Council's plenary session will include the following issues. The Council may take appropriate action on any of the issues identified.

Reports

1. Executive Director's Report

NMFS Management Report (including Observer Program update)

Alaska Department of Fish & Game Report

NOAA Enforcement Report

United States Coast Guard Report

United States Fish & Wildlife Service Report

Protected Species Report Alaska Oceans Observing System (AOOS)

2. Halibut Bycatch

Review Halibut Workshop Report; Final action on Gulf of Alaska (GOA) Halibut Prohibited Species Catch (PSC); Discussion paper on GOA comprehensive halibut bycatch amendments; Discussion paper on Bering Sea Aleutian Island (BSAI) halibut PSC limit (T).

3. Essential Fish Habitat (EFH)

Initial review of Bering Sea Habitat Area of Particular Concern (HAPC) skate egg sites.

4. BSAI Crab Rebuilding

Crab Plan Team report on Set catch Specifications for 4 stocks; Final action on Pribilof Bristol Bay Red King Crab rebuilding plan.

5. Freezer Longline (FLL) Issues

Discussion paper on revising FLL GOA cod sideboards (T); Initial review of FLL Vessel replacement.

6. Groundfish Issues

Discussion paper on limiting other gear on jig vessels; Discussion paper on BSAI Greenland turbot allocation; Discussion paper on BSAI Flatfish specification flexibility (T); Discussion paper on Grenadiers; Review and approve a 5-Year Research Priorities; Review comments & reports on Programmatic Supplemental Impact Statement (PSEIS); action as necessary; review Pacific cod assessment models (SSC only); Receive report of the Recruitment Workshop (SSC only).

7. Staff Tasking

Review Committees and tasking.

8. Other Business

The SSC agenda will include the following issues:

1. EFH

2. BSAI Crab Rebuilding

3. FFL Vessel replacement

4. 5-year Research Priorities

The Advisory Panel will address most of the same agenda issues as the Council except B reports. The Agenda is subject to change, and the latest version will be posted at http://www.alaskafisheries.noaa.gov/npfmc/.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meetings.

Dated: May 15, 2012.
Tracey L. Thompson,
Acting Director, Office of Sustainable Fisheries, National Marine Fisheries Service.

[FR Doc. 2012-12076 Filed 5-17-12; 8:45 am]

BILLING CODE 3510-22-P